DEPARTMENT OF COMMERCE

National Oceanic and Atmospheric Administration

Intent To Prepare an Environmental Impact Statement on the Proposed Indiana Coastal Zone Management Program

AGENCY: National Oceanic and Atmospheric Administration, Department of Commerce.

ACTION: Notice of change of date for close of comment period.

SUMMARY: On June 11, 2001, the National Oceanic and Atmospheric Administration announced its intent to prepare an environmental impact statement on the Proposed Indiana Coastal Zone Management Program (66 FR 31215). The public scoping period began with the publication of that notice in the Federal Register. Notice is hereby given of a new closing date for submission of written comments of August 6, 2001.

FOR FURTHER INFORMATION CONTACT: John King, Acting Chief, Coastal Programs Division (N/ORM3), Office of Ocean and Coastal Resource Management, NOS, NOAA, 1305 East-West Highway, Silver Spring, Maryland, tel. 301-713-3155, extension 195, e-mail john.king@noaa.gov.

(Federal Domestic Assistance Catalog 11.419 Coastal Zone Management Program Administration)
Dated: July 2, 2001.
Ted I. Lillestolen,
Deputy Assistant Administrator for Ocean Services and Coastal Zone Management, National Oceanic and Atmospheric Administration, Department of Commerce.

[FR Doc. 01-16952 Filed 7-2-01; 3:21 pm]

BILLING CODE 3510-08-M